NATIONAL ARCHIVES AND RECORDS ADMINISTRATION

[NARA-2015-055]

Nixon Presidential Historical Materials; Opening of Materials

AGENCY: National Archives and Records Administration (NARA).

ACTION: Notice of opening of additional materials.

SUMMARY: The Richard Nixon Presidential Library and Museum (a NARA division) provides notice that we are placing the White House Central Files, Name Files, into a review-on-demand category for public access. We have identified, inventoried, and prepared these additional textual materials for public access with certain information redacted as required by law.

DATES: If you intend to submit a petition or claim asserting a legal or constitutional right or privilege that would prevent or limit public access to these materials, you must notify the Archivist of the United States in writing of the claimed right, privilege, or defense by September 11, 2015.

ADDRESSES: The Richard Nixon Presidential Library and Museum is located at 18001 Yorba Linda Blvd., Yorba Linda, CA.

Send written petitions asserting a legal or constitutional right or privilege that would prevent or limit public access to the materials by mail to: Archivist of the United States; National Archives and Records Administration; 8601 Adelphi Rd.; College Park, MD 20740-6001.

FOR FURTHER INFORMATION CONTACT: Gregory Cumming, Richard Nixon Presidential Library and Museum, by telephone at 714-983-9131, or by email at gregory.cumming@nara.gov.

SUPPLEMENTARY INFORMATION: Section 104 of Title I of the Presidential Recordings and Materials Preservation Act (PRMPA, 44 U.S.C. 2111 note) and 36 CFR 1275.42(b) of the PRMPA regulations implementing the Act, direct NARA to provide notice in the Federal Register of materials we make available to the public.

We are making the following materials available through this notice:

White House Central Files, Name Files

Volume: 2,880.5 cubic feet available for review-on-demand.

The Name Files were used for routine materials filed alphabetically by the name of the correspondent; copies of documents in the Name Files were usually filed by subject in the Subject Files.

The alphabetical Name Files will be available to researchers on a review-on-demand basis. This means researchers may request access to the files, which we will prepare and make available within ten business days.

In accordance with 36 CFR 1275.44, any person who believes it necessary to file a claim of legal right or privilege that would prevent or limit public access to these materials must notify the Archivist of the United States in writing of the claimed right, privilege, or defense within 30 days of publication of this notice.

Researchers must have a NARA researcher card to access the materials. You may obtain a researcher card when you arrive at the Richard Nixon Presidential Library and Museum.

Dated: August 6, 2015.
David S. Ferriero,
Archivist of the United States.

[FR Doc. 2015-19844 Filed 8-11-15; 8:45 am]

BILLING CODE 7515-01-P